DEPARTMENT OF COMMERCE

Foreign-Trade Zones Board

[Docket 18-2001]

Foreign-Trade Zone 33—Pittsburgh, Pennsylvania, Application for Subzone, Sony Technology Center—Pittsburgh (Television Manufacturing Facilities) Mount Pleasant, Pennsylvania

Correction

In notice document 01-10860, appearing on page 21740, in the issue of May 1, 2001, make the following correction:

In the third column, in the second complete paragraph, in the 11th line, “July 2, 2001” should read “July 16, 2001.”

[FR Doc. C1-10860 Filed 5-10-01; 8:45 am]

BILLING CODE 1505-01-D

COMMODITY FUTURES TRADING COMMISSION

17 CFR Part 160

Privacy of Consumer Financial Information

Correction

In rule document 01-10398 beginning on page 21236 in the issue of Friday, April 27, 2001, make the following correction:

§160.18 [Corrected]

On page 21261, in the second column, in § 160.18(a), last line, “June 21, 2001” should read “March 31, 2001”.

[FR Doc. C1-10398 Filed 5-10-01; 8:45 am]

BILLING CODE 1505-01-D

DEPARTMENT OF TRANSPORTATION

Coast Guard

46 CFR Parts 10 and 15

[USCG 1999-6224]

RIN 2115-AF23

Licensing and Manning for Officers of Towing Vessels

Correction

In rule document 01-10284 beginning on page 20931 in the issue of Thursday, April 26, 2001, make the following correction:

On page 20931, in the third column, in the first line, “October 7, 2000” should read “October 27, 2000.”

[FR Doc. C1-10284 Filed 5-10-01; 8:45 am]

BILLING CODE 1505-01-D